DEPARTMENT OF COMMERCE

National Oceanic and Atomospheric Administration

50 CFR Parts 600 and 660

[Docket No. 011231309-1309-01; I.D. 121301B]

RIN 0648-AO69

Magnuson-Stevens Act Provisions; Fisheries off the West Coast States and in the Western Pacific; Pacific Coast Groundfish Fishery; Groundfish Fishery Management Measures; Correction

AGENCY: National Marine Fisheries Service (NMFS), National Oceanic and Atmospheric Administration (NOAA), Commerce.

ACTION: Correction to the emergency rule; January through February 2002 Pacific Coast groundfish fishery management measures.

SUMMARY: This document contains a correction to the emergency rule for the January through February 2002 Pacific Coast groundfish fishery management measures published on January 11, 2002.

DATES: Effective February 19, 2002 through February 28, 2002.

FOR FURTHER INFORMATION CONTACT: Yvonne deReynier, NMFS, (206)-526-6140.

SUPPLEMENTARY INFORMATION:

Background

The emergency rule for the January through February 2002 management measures for groundfish taken in the U.S. exclusive economic zone and state waters off the coasts of Washington, Oregon, and California, as authorized by the Pacific Coast Groundfish Fishery Management Plan, was published in the Federal Register on January 11, 2002 (67 FR 1540), and corrected on January 28, 2002 (67 FR 3820). This emergency rule contained an additional error that requires correction.

Corrections

In the rule FR Doc. 01-32261, in the issue of Friday, January 11, 2002 (67 FR 1540), make the following corrections:

1. On page 1544, in the first column, paragraph A.(14)(b)(iii), the last sentence is corrected and an additional sentence is added to read as follows:

“If a vessel uses both small footrope gear and midwater gear for a single species during the same cumulative limit period and the midwater gear limit is higher than the small footrope gear limit, the small footrope gear limit may not be exceeded with small footrope gear and counts toward the midwater gear limit. Conversely, if a vessel uses both small footrope gear and midwater gear for a single species during the same cumulative limit period and the small footrope gear limit is higher than the midwater gear limit, the midwater gear limit may not be exceeded with midwater gear and counts toward the small footrope gear limit.”

Dated: February 12, 2002.
Rebecca Lent,
Deputy Assistant Administrator for Regulatory Programs, National Marine Service.

[FR Doc. 02-3978 Filed 2-15-02; 8:45 am]

BILLING CODE 3510-22-S